INTERNATIONAL TRADE COMMISSION

[Investigation No. 337-TA-1011]

Certain Inkjet Printers, Printheads, and Ink Cartridges, Components Thereof, and Products Containing Same; Institution of Investigation

AGENCY: U.S. International Trade Commission.

ACTION: Notice.

SUMMARY: Notice is hereby given that a complaint was filed with the U.S. International Trade Commission on May 27, 2016, under section 337 of the Tariff Act of 1930, as amended, 19 U.S.C. 1337, on behalf of HP Inc. of Palo Alto, California. The complaint alleges violations of section 337 based upon the importation into the United States, the sale for importation, and the sale within the United States after importation of certain inkjet printers, printheads, and ink cartridges, components thereof, and products containing same by reason of infringement of certain claims of U.S. Patent No. 6,270,201 (“the '201 Patent”); U.S. Patent No. 6,491,377 (“the '377 Patent”); U.S. Patent No. 6,260,952 (“the '952 Patent”); U.S. Patent No. 7,004,564 (“the '564 Patent”); U.S. Patent No. 7,090,343 (“the '343 Patent”); and U.S. Patent No. 7,744,202 (“the '202 Patent”). The complaint further alleges that an industry in the United States exists as required by subsection (a)(2) of section 337.

The complainant request that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2016).

Scope of Investigation: Having considered the complaint, the U.S. International Trade Commission, on June 27, 2016, ordered that—

(1) Pursuant to subsection (b) of section 337 of the Tariff Act of 1930, as amended, an investigation be instituted to determine whether there is a violation of subsection (a)(1)(B) of section 337 in the importation into the United States, the sale for importation, or the sale within the United States after importation of certain inkjet printers, printheads, and ink cartridges, components thereof, and products containing same by reason of infringement of one or more of claims 1-3, 6, 13-15, 17, 23-25, 28-30, 35, and 37 of the '201 patent; claims 22-24 of the '377 patent; claims 1-3, 5-8, 10, 13, 14, and 16 of the '952 patent; claims 1-24 of the '564 patent; claims 1-22 of the '343 patent; and claims 1-6, 9-12, 16, 18, 21, 23, and 26-30 of the '202 patent, and whether an industry in the United States exists as required by subsection (a)(2) of section 337;

(2) For the purpose of the investigation so instituted, the following are hereby named as parties upon which this notice of investigation shall be served:

(a) The complainant is: HP Inc., 1501 Page Mill Road, Palo Alto, California 94304-1185.

(b) The respondents are the following entities alleged to be in violation of section 337, and are the parties upon which the complaint is to be served:

Memjet, Ltd., 61/62 Fitzwilliam Lane, Dublin 2, Ireland

Memjet US Services, Inc., 10918 Technology Place, San Diego, California 92127

Memjet Home and Office, Inc., 923 South Bridgeway Place, Suite 220, Eagle, Idaho 83616

Memjet North Ryde Pty Ltd., 6-8 Lyon Park Road, North Ryde, New South Wales, 2113, Australia

Memjet Technology Ltd., 61/62 Fitzwilliam Lane, Dublin 2, Ireland

Memjet Holdings Ltd., 61/62 Fitzwilliam Lane, Dublin 2, Ireland

Afinia LLC (d/b/a Afinia Label), 8150 Mallory Court, Chanhassen, Minnesota 55317

Astro Machine Corporation, 630 Lively Boulevard, Elk Grove Village, Illinois 60007

Colordyne Technologies, LLC, 3275 Intertech Drive, Suite 100, Brookfield, Wisconsin 53045

Formax Technologies, Inc., 1 Education Way, Dover, New Hampshire 03820

Neopost USA, Inc., (d/b/a Neopost Northwest, Neopost Northeast, Neopost Priority Systems, and/or Neopost Southeast), 478 Wheelers Farms Road, Milford, Connecticut 06461

Printware LLC, 2935 Waters Road, Suite 160, Eagan, Minnesota 55121

VIPColor Technologies USA, Inc., 6737 Mowry Avenue, Newark, California 94560

ABC Office (d/b/a Brent Barlow), 1142 West Flint Meadow Drive, Kaysville, Utah 84037

All for Mailers, Inc., 4 Roland Avenue, Feasterville, Pennsylvania 19053

Fernqvist Labeling Solutions, Inc., 2544 Leghorn Street, Mountain View, California 94043

Information Management Services LLC, (d/b/a MyBinding.com), 5500 N.E. Moore Court, Hillsboro, Oregon 97124

JMP Business Systems, Inc., 1450 Tollhouse Road, No. 103, Clovis, California 93611

Mono Machines LLC, 1133 Broadway Suite 706, New York, New York 10010

Ordway Corporation, (d/b/a Print & Finishing Solutions), 1632 Sierra Madre Circle, Placentia, California 92870

Pacific Barcode Inc., 27531 Enterprise Circle West, Temecula, California 92590

Pacific Code & Label, Inc., 37 N.E. 47th Avenue, Building B, Portland, Oregon 97213

Parts Now! LLC, 434 S. Yellowstone Drive, Suite 100, Madison, Wisconsin 53719

Trademark Copysystems Inc., (d/b/a Addrex—Addresser Sales Company), 13864 Bennett Road, Cleveland, Ohio 44133

Vivid Data Group LLC, 4711 Hines Place, Suite 112, Dallas, Texas 75235

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 27, 2016.
Lisa R. Barton,
Secretary to the Commission.

[FR Doc. 2016-15621 Filed 6-30-16; 8:45 am]

BILLING CODE 7020-02-P